DEPARTMENT OF THE INTERIOR

Office of the Secretary; Glen Canyon Dam Adaptive Management Work Group; Notice of Renewal

This notice is published in accordance with section 9(a)(2) of the Federal Advisory Committee Act (Pub. L. 92-463). Following consultation with the General Services Administration, notice is hereby given that the Secretary of the Interior (Secretary) is renewing the Glen Canyon Dam Adaptive Management Work Group. The purpose of the Adaptive Management Work Group is to advise and provide recommendations to the Secretary with respect to his responsibility to comply with the Grand Canyon Protection Act of October 30, 1992, embodied in Public Law 102-575.

Further information regarding the advisory council may be obtained from the Bureau of Reclamation, Department of the Interior, 1849 C Street, NW, Washington, DC 20240.

The certification of renewal is published below.

Certification

I hereby certify that establishment of the Glen Canyon Dam Adaptive Management Work Group is in the public interest in connection with the purpose of duties imposed on the Department of the Interior by 30 U.S.C. 1-8.

Dated: January 16, 2001.
Bruce Babbitt,
Secretary of the Interior.

[FR Doc. 01-1872 Filed 1-22-01; 8:45 am]

BILLING CODE 4310-MN-M